DEPARTMENT OF ENERGY

Federal Energy Regulatory Commission

Combined Notice of Filings #1

Take notice that the Commission received the following electric rate filings:

Docket Numbers: ER19-106-001; ER17-2364-003; ER10-2719-033; ER16-2462-008; ER14-2500-009; ER14-2498-009; ER10-3099-021.

Applicants: Birdsboro Power LLC, St. Joseph Energy Center, LLC, East Coast Power Linden Holding, L.L.C., Oregon Clean Energy, LLC, Newark Energy Center, LLC, EIF Newark, LLC, RC Cape May Holdings, LLC.

Description: Notice of Non-Material Change in Status of Birdsboro Power LLC, et al.

Filed Date: 3/7/19.

Accession Number: 20190307-5113.

Comments Due: 5 p.m. ET 3/28/19.

Docket Numbers: ER19-289-002; ER10-1827-007; ER10-1533-019; ER18-2264-002; ER10-2791-0016; ER10-2792-016; ER10-1575-014; ER10-2876-016; ER10-2931-016.

Applicants: Cleco Cajun LLC, Cleco Power LLC, Macquarie Energy LLC, Macquarie Energy Trading LLC, Bayou Cove Peaking Power, LLC, Big Cajun I Peaking Power LLC, Cottonwood Energy Company LP, Louisiana Generating LLC, NRG Sterlington Power LLC.

Description: Notice of Non-Material Change in Status of Cleco Cajun LLC, et al.

Filed Date: 3/6/19.

Accession Number: 20190306-5243.

Comments Due: 5 p.m. ET 3/27/19.

Docket Numbers: ER19-511-001.

Applicants: PJM Interconnection, L.L.C.

Description: Tariff Amendment: Response to the Commission's 2/4/2019 Deficiency Letter re: Peak Shaving to be effective 2/5/2019.

Filed Date: 3/6/19.

Accession Number: 20190306-5200.

Comments Due: 5 p.m. ET 3/27/19.

Docket Numbers: ER19-1206-000.

Applicants: Midcontinent Independent System Operator, Inc.

Description: § 205(d) Rate Filing: 2019-03-07 ITC Midwest—Louise Solar Project GIA (J523) to be effective 2/22/2019.

Filed Date: 3/7/19.

Accession Number: 20190307-5032.

Comments Due: 5 p.m. ET 3/28/19.

Docket Numbers: ER19-1207-000.

Applicants: Prairie Breeze Wind Energy II LLC.

Description: § 205(d) Rate Filing: Revised Market-Based Rate Tariff Filing to be effective 3/8/2019.

Filed Date: 3/7/19.

Accession Number: 20190307-5034.

Comments Due: 5 p.m. ET 3/28/19.

Docket Numbers: ER19-1209-000.

Applicants: Buckeye Wind Energy LLC.

Description: § 205(d) Rate Filing: Revised Market-Based Rate Tariff Filing to be effective 3/8/2019.

Filed Date: 3/7/19.

Accession Number: 20190307-5039.

Comments Due: 5 p.m. ET 3/28/19.

Docket Numbers: ER19-1211-000.

Applicants: Midcontinent Independent System Operator, Inc., Northern States Power Company, a Minnesota, Great River Energy.

Description: § 205(d) Rate Filing: 2019-03-07 Filing to amend RS 28 GRE JPZ Revenue Allocation Agreement to be effective 5/7/2019.

Filed Date: 3/7/19.

Accession Number: 20190307-5149.

Comments Due: 5 p.m. ET 3/28/19.

Docket Numbers: ER19-1212-000.

Applicants: Midcontinent Independent System Operator, Inc., Great River Energy.

Description: § 205(d) Rate Filing: 2019-03-07 Revisions to Schedules 7, 8, and 9 regarding Willmar Municipal to be effective 5/7/2019.

Filed Date: 3/7/19.

Accession Number: 20190307-5150.

Comments Due: 5 p.m. ET 3/28/19.

Take notice that the Commission received the following electric reliability filings:

Docket Numbers: RR19-4-000.

Applicants: North American Electric Reliability Corporation, Florida Reliability Coordinating Council, Inc., SERC Reliability Corporation.

Description: Errata to February 27, 2019 Joint Petition of NERC, et al. for Approvals in Connection with the Dissolution of the Florida Reliability Coordinating Council, Inc. Regional Entity.

Filed Date: 3/6/19.

Accession Number: 20190306-5230.

Comments Due: 5 p.m. ET 3/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2019.
Kimberly D. Bose,
Secretary.

[FR Doc. 2019-04672 Filed 3-13-19; 8:45 am]

BILLING CODE 6717-01-P